DEPARTMENT OF STATE

[Public Notice 6943]

Designation and Determination Pursuant to the Foreign Missions Act

Concerning the Designation of entities in the United States that are substantially owned or effectively controlled by the Government of Vietnam as Foreign Missions and the Determination that property transactions on the part of such entities are subject to Foreign Mission Act regulation:

In order to adjust for costs and procedures of obtaining benefits for the mission of the United States in Vietnam and to protect the interests of the United States in that context, pursuant to the authority vested in me by the Foreign Missions Act, 22 U.S.C. 4301 et seq. (“the Act”), and Department of State Delegation of Authority No. 214, Section 14, dated September 20, 1994, I hereby designate the Vietnam News Agency, an entity engaged in activities in the United States that is effectively controlled by the Government of Vietnam, and all entities in the United States that are designated by the Department of State as Miscellaneous Foreign Government Offices of the Government of Vietnam now or in the future, including the Vietnam Trade Promotion Center, as well as any other entity in the United States which is substantially owned or effectively controlled by the Government of Vietnam, to be “foreign missions” within the meaning of Section 4302(a)(3) of the Act and determine that the provisions of Section 4305 of the Act apply to the acquisition, proposed sale or disposition of real property by or on behalf of such entities.

Dated: March 30, 2010.
Eric J. Boswell,
Director, Office of Foreign Missions.

[FR Doc. 2010-7905 Filed 4-6-10; 8:45 am]

BILLING CODE 4710-43-P